AGENCY FOR INTERNATIONAL DEVELOPMENT

Privacy Act of 1974; System of Records; Correction

AGENCY: United States Agency for International Development.

ACTION: Notice of proposed general routine use; Correction.

SUMMARY: The United States Agency for International Development (USAID) published a notice of a proposed new general routine use in the Federal Register on December 12, 2007 (72 FR 70559). The due date for written comments was erroneously published as December 12, 2007. As a result USAID is issuing this notice to correct the date in which written comments are due. In order to allow the public full opportunity to provide written comments, the dates for both the written comments and the effective date for the general routine use are corrected below.

DATES: Written comments must be received on or before January 17, 2008. The proposed general routine use will be effective January 17, 2008 unless the Agency receives comments which would result in a contrary determination.

FOR FURTHER INFORMATION CONTACT: For general questions regarding this notice, please contact: Rhonda L. Turnbow, Deputy Chief Privacy Officer, United States Agency for International Development, 1300 Pennsylvania Avenue, NW., Office 7.6-06A, Washington, DC 20523-2120 or by e-mail: privacy@usaid.gov.

Dated: December 12, 2007.
Rhonda L. Turnbow,
Deputy Chief Privacy Officer.

[FR Doc. E7-24440 Filed 12-17-07; 8:45 am]

BILLING CODE 6116-01-P